DEPARTMENT OF COMMERCE

National Telecommunications and Information Administration

Commerce Spectrum Management Advisory Committee Meeting

AGENCY: National Telecommunications and Information Administration, U.S. Department of Commerce.

ACTION: Notice of open meeting, room location change.

SUMMARY: This notice announces a change in the room location of a public meeting of the Commerce Spectrum Management Advisory Committee (Committee).

DATES: The meeting will be held on May 25, 2011 from 9 a.m. to 12 p.m., Eastern Daylight Time.

ADDRESSES: The meeting will be held at the U.S. Department of Commerce, 1401 Constitution Avenue, NW., Room 6059, Washington, DC.

FOR FURTHER INFORMATION CONTACT: Bruce M. Washington, Designated Federal Officer, at (202) 482-6415, or BWashington@ntia.doc.gov; and/or visit NTIA's Web site at http://www.ntia.doc.gov/advisory/spectrum.

SUPPLEMENTARY INFORMATION: On April 28, 2011, the National Telecommunications and Information Administration published in the Federal Register a notice announcing a public meeting of the Committee to be held at U.S. Department of Commerce, 1401 Constitution Avenue, NW., Room 6029, Washington, DC 20230. See 76 FR 23796 (April 28, 2011). The Committee meeting will now be held in Room 6059. All other information regarding this public meeting remains unchanged. Please refer to NTIA's Web site for the most up-to-date meeting agenda and access information.

Dated: May 9, 2011.
Milton Brown,
Acting Chief Counsel, National Telecommunications and Information Administration.

[FR Doc. 2011-11651 Filed 5-11-11; 8:45 am]

BILLING CODE 3510-60-P